DEPARTMENT OF TRANSPORTATION

Federal Aviation Administration

14 CFR Part 73

[Docket No. FAA-2002-13414; Airspace Docket No. 02-AGL-7]

RIN 2120-AA66

Proposed Modification of Restricted Areas R-6904A and R-6904B, Volk Field, WI

AGENCY: Federal Aviation Administration (FAA), DOT.

ACTION: Notice of proposed rulemaking.

SUMMARY: This action proposes to raise the upper limit of Restricted Areas 6904A (R-6904A) and 6904B (R-6904B), Volk Field, WI, from 17,000 feet above mean sea level (MSL) to Flight Level 230 (FL 230). Expanding the vertical limit would facilitate the transition of participating aircraft between these restricted areas and the overlying Volk West Air Traffic Control Assigned Airspace (ATCAA). The additional airspace is needed to fulfill new U.S. Air Force (USAF) training requirements. No other changes to R-6904A or R-6904B are proposed.

DATES: Comments must be received on or before March 14, 2003.

ADDRESSES: Send comments on this proposal to the Docket Management System, U.S. Department of Transportation, Room Plaza 401, 400 Seventh Street, SW., Washington, DC 20590-0001. You must identify the docket numbers FAA-2002-13414/Airspace Docket No. 02-AGL-7 at the beginning of your comments.

You may also submit comments through the Internet to http://dms.dot.gov. You may review the public docket containing the proposal, any comments received, and any final disposition in person in the Dockets Office between 9 a.m. and 5 p.m., Monday through Friday, except Federal holidays. The Dockets Office (telephone 1-800-647-5527) is on the plaza level of the NASSIF Building at the Department of Transportation at the above address.

An informal docket may also be examined during normal business hours at the office of the Regional Air Traffic Division, Federal Aviation Administration, 2300 East Devon Avenue, Des Plaines, IL 60018.

FOR FURTHER INFORMATION CONTACT: Steve Rohring, Airspace and Rules Division, ATA-400, Office of Air Traffic Airspace Management, Federal Aviation Administration, 800 Independence Avenue, SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal. Communications should identify the airspace docket number and be submitted in triplicate to the address listed above. Commenters wishing the FAA to acknowledge receipt of their comments on this notice must submit with those comments a self-addressed, stamped postcard on which the following statement is made: “Comments to Docket Nos. FAA-2002-13414/Airspace Docket No. 02-AGL-7.” The postcard will be date/time stamped and returned to the commenter. All communications received on or before the specified closing date for comments will be considered before taking action on the proposed rule. The proposal contained in this notice may be changed in light of comments received. All comments submitted will be available for examination in the Rules Docket both before and after the closing date for comments. A report summarizing each substantive public contact with FAA personnel concerned with this rulemaking will be filed in the docket.

Availability of NPRM's

An electronic copy of this document may be downloaded through the internet at http://dms.dot.gov.

Additionally, any person may obtain a copy of this notice by submitting a request to the Federal Aviation Administration, Office of Air Traffic Airspace Management, ATA-400, 800 Independence Avenue, SW., Washington, DC 20591, or by calling (202) 267-8783. Communications must identify both docket numbers of this NPRM. Persons interested in being placed on a mailing list for future NPRM's should call the FAA's Office of Rulemaking, (202) 267-9677, for a copy of Advisory Circular No. 11-2A, Notice of Proposed Rulemaking Distribution System, which describes the application procedure.

Background

By letter, the USAF requested that the FAA take action to increase the vertical limits of R-6904A and R-6904B from 17,000 feet above MSL to FL 230. Currently, participating aircraft must change their flight profile when crossing the 1,000 feet of airspace located above the restricted areas and below the Volk West ATCAA. This requested action would facilitate the transition of participating aircraft between these restricted areas and the overlying Volk West ATCAA by eliminating the 1,000-foot gap between the restricted areas and the ATCAA. This proposed action would also provide additional airspace needed to fulfill new USAF training requirements. Specifically, new training requirements call for practicing the release of bombs from higher altitudes than are currently available within the existing airspace structure. The current upper limit of 17,000 feet above MSL is not suitable for meeting this new training requirement. Raising the ceiling to FL 230 would allow for the required practice. No other changes to R-6904A or R-6904B are requested.

The Proposal

The FAA is proposing an amendment to 14 CFR part 73 to raise the vertical limits of R-6904A and R-6904B from 17,000 feet above MSL to FL 230. This additional altitude is required to eliminate the 1,000-foot gap between the restricted areas and the overlying Volk West ATCAA, and to meet the Air Force's requirement to practice the release of bombs from higher altitudes than are currently available within the existing restricted area airspace. No other changes to R-6904A or R-6904B are proposed.

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

This proposal will be subjected to an environmental analysis in accordance with FAA Order 1050.1D, Procedures for Handling Environmental Impacts, prior to any FAA final regulatory action.

List of Subjects in 14 CFR Part 73

Airspace, Navigation (air).

The Proposed Amendment

In consideration of the foregoing, the Federal Aviation Administration proposes to amend 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.63 [Amended]

2. § 73.63 is amended as follows:

* * * * *

R-6904A Volk Field, WI [Amended]

By removing the current designated altitudes and substituting the following:

Designated altitudes. 150 feet AGL to FL 230.

* * * * *

R-6904B Volk Field, WI [Amended]

By removing the current designated altitudes and substituting the following:

Designated altitudes. Surface to FL 230.

* * * * *

Issued in Washington, DC on January 21, 2003.
Reginald C. Matthews,
Manager, Airspace and Rules Division.

[FR Doc. 03-1874 Filed 1-27-03; 8:45 am]

BILLING CODE 4910-13-P